DEPARTMENT OF THE TREASURY

Office of Thrift Supervision

Coastal Bank, Cocoa Beach, Florida; Notice of Appointment of Receiver

Notice is hereby given that, pursuant to the authority contained in section 5(d)(2) of the Home Owners' Loan Act, the Office of Thrift Supervision has duly appointed the Federal Deposit Insurance Corporation as sole Receiver for Coastal Bank, Cocoa Beach, Florida, (OTS No. 15445) on May 6, 2011.

Dated: May 10, 2011.
By the Office of Thrift Supervision.
Sandra E. Evans,
Federal Register Liaison.

[FR Doc. 2011-11778 Filed 5-12-11; 8:45 am]

BILLING CODE 6720-01-M